DEPARTMENT OF COMMERCE

International Trade Administration

[A-570-983]

Drawn Stainless Steel Sinks From the People's Republic of China: Final Results of the Antidumping Duty Administrative Review; 2016-2017

AGENCY: Enforcement and Compliance, International Trade Administration, Department of Commerce.

SUMMARY: The Department of Commerce (Commerce) finds that certain companies covered by this administrative review made sales of drawn stainless steel sinks (drawn sinks) from the People's Republic of China (China) at less than normal value.

DATES: Applicable May 21, 2018.

FOR FURTHER INFORMATION CONTACT: Rebecca Janz or Ajay Menon, AD/CVD Operations, Office II, Enforcement and Compliance, International Trade Administration, U.S. Department of Commerce, 1401 Constitution Avenue NW, Washington, DC 20230; telephone: (202) 482-2972 and (202) 482-1993, respectively.

SUPPLEMENTARY INFORMATION:

Background

The final results of this administrative review cover two mandatory respondents, Feidong Import and Export Co., Ltd. (Feidong), and Foshan Zhaoshun Trade Co., Ltd (Zhaoshun). We continue to determine that neither mandatory respondent qualifies for a separate rate, and, therefore, both are considered part of the China-wide entity. Additionally, we continue to include two companies that failed to demonstrate their entitlement to a separate rate (i.e., Jiangmen Hongmao Trading Co., Ltd. (Hongmao) and Yuyao Afa Kitchenware Co., Ltd. (Yuyao)) as part of the China-wide entity. We also continue to grant separate rates to the following companies which were not selected for individual examination: Jiangmen New Star Hi-Tech Enterprise Ltd. (New Star); KaiPing Dawn Plumbing Products, Inc. (KaiPing); Guangdong New Shichu Import and Export Company Limited (New Shichu); and Ningbo Afa Kitchen and Bath Co., Ltd. (Ningbo Afa). Finally, we continue find that B&R Industries Limited (B&R); Xinhe Stainless Steel Products Co., Ltd. (Xinhe); Zhongshan Superte Kitchenware Co., Ltd. (Superte); and Zhuhai KOHLER Kitchen & Bathroom Products Co., Ltd. (Zhuhai KOHLER) made no shipments of subject merchandise during the period of review (POR) April 1, 2016, through March 31, 2017.

On January 5, 2018, Commerce published the Preliminary Results.¹ For events occurring after the Preliminary Results, see the Issues and Decision Memorandum.² Commence conducted this administrative review in accordance with section 751 of the Tariff Act of 1930, as amended (the Act).

¹ See Drawn Stainless Steel Sinks from the People's Republic of China: Preliminary Results of the Antidumping Duty Administrative Review and Preliminary Determination of No Shipments; 2016-2017, 83 FR 658 (January 5, 2018) (Preliminary Results), and accompanying Preliminary Decision Memorandum (PDM).

² See Memorandum, “Decision Memorandum for the Final Results of the Antidumping Duty Administrative Review: Drawn Stainless Steel Sinks from the People's Republic of China,” issued concurrently with and hereby adopted by this notice (Issues and Decision Memorandum).

Commerce exercised its discretion to toll all deadlines affected by the closure of the Federal Government from January 20 through 22, 2018. If the new deadline falls on a non-business day, in accordance with Commerce's practice, the deadline will become the next business day. The revised deadline for the final results of this review is now May 8, 2018.³

³ See Memorandum, “Deadlines Affected by the Shutdown of the Federal Government.” dated January 23, 2018. All deadlines in this segment of the proceeding have been extended by three days.

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.⁴

⁴ For a complete description of the Scope of the Order, see Issues and Decision Memorandum.

Analysis of Comments Received

All issues raised in the case and rebuttal briefs are addressed in the Issues and Decision Memorandum. A list of the issues which parties raised and to which we respond in the Issues and Decision Memorandum is attached to this notice as an Appendix. The Issues and Decision Memorandum is a public document and is on file electronically via Enforcement and Compliance's Antidumping and Countervailing Duty Centralized Electronic Service System (ACCESS). ACCESS is available to registered users at https://access.trade.gov, and it is available to all parties in the Central Records Unit, Room B8024 of the main Department of Commerce building. In addition, a complete version of the Issues and Decision Memorandum can be accessed directly at http://trade.gov/enforcement. The signed Issues and Decision Memorandum and the electronic version of the Issues and Decision Memorandum are identical in content.

Changes Since the Preliminary Results

Based on our analysis of the comments received, we made no changes to our Preliminary Results.

Final Determination of No Shipments

In the Preliminary Results, Commerce preliminarily determined that B&R, Xinhe, Superte, and Zhuhai KOHLER had no shipments of subject merchandise during the POR.⁵ We received no comments since the issuance of the Preliminary Results on this issue. Thus, we continue to determine that B&R, Xinhe, Superte, and Zhuhai KOHLER had no shipments of subject merchandise during the POR, and we intend to issue appropriate instructions to U.S. Customs and Border Protection (CBP) that are consistent with our “automatic assessment” clarification for these final results of review.⁶

⁵ See Preliminary Results, 83 FR at 658.

⁶ See Non-Market Economy Antidumping Proceedings: Assessment of Antidumping Duties, 76 FR 65694, 65694-95 (October 24, 2011); see also “Assessment Rates” section of this notice.

Separate Rate Respondents

In the Preliminary Results, we found that evidence provided by KaiPing, New Shichu, New Star, and Ningbo Afa supported finding an absence of both de jure and de facto government control; therefore, we preliminarily granted a separate rate to each of these companies.⁷ We received no comments since the issuance of the Preliminary Results on this issue with respect to these companies. Therefore, Commerce continues to find that KaiPing, New Shichu, New Star, and Ningbo Afa meet the criteria for a separate rate.

⁷ See Preliminary Results, 83 FR at 658-659.

With respect to Hongmao, Yuyao, and Zhaoshun, we preliminarily determined that these companies failed to establish their entitlement to a separate rate.⁸ We received no comments since the issuance of the Preliminary Results on this issue with respect to these companies. Therefore, Commerce continues to find that Hongmao, Yuyao, and Zhaoshun are not eligible for a separate rate and are part of the China-wide entity.

⁸ Id.

With respect to Feidong, we preliminarily determined that Feidong failed to demonstrate an absence of de facto government control, and, thus, Commerce did not grant Feidong a separate rate.⁹ For these final results, we continue to find that Feidong failed to demonstrate an absence of de facto government control based on record evidence. Accordingly, we continue to find that Feidong is not eligible for a separate rate and is part of the China-wide entity. For further discussion of this issue, see the accompanying Issues and Decision Memorandum.

⁹ Id. at 659.

Rate for Non-Examined Separate Rate Respondents

In the Preliminary Results, consistent with our recent practice, we preliminarily assigned the non-selected companies a weighted-average dumping margin of 1.78 percent (i.e., the most recently assigned separate rate in this proceeding) ¹⁰ because we did not calculate any individual rates or assign a rate based on facts available during this review.¹¹ No parties commented on the methodology for calculating this separate rate. Therefore, in these final results of the review, we continue to assign a rate of 1.78 percent for those companies that were not individually examined and are eligible for a separate rate. These companies, KaiPing, New Shichu, New Star, and Ningbo Afa, are also listed below in the section entitled “Final Results of the Review.”

¹⁰ See Drawn Stainless Steel Sinks from the People's Republic of China: Final Results of Antidumping Duty Administrative Review and Final Determination of No Shipments; 2015-2016, 82 FR 28639, 28640 (June 23, 2017).

¹¹ See, e.g., Certain Frozen Warmwater Shrimp from the Socialist Republic of Vietnam: Preliminary Results of Antidumping Duty Administrative Review; 2015-2016, 81 FR 62717 (September 12, 2016), and accompanying Preliminary Decision Memorandum at 10-11, unchanged in Certain Frozen Warmwater Shrimp from the Socialist Republic of Vietnam: Final Results of Antidumping Duty Administrative Review; 2015-2016, 82 FR 11431 (February 23, 2017).

Final Results of the Review

In the Preliminary Results, Commerce preliminarily found that Feidong, Hongmao, Yuyao, and Zhaoshun were not eligible for a separate rate, and therefore, were part of China-wide entity, subject to the China-wide entity rate of 76.45 percent.¹² Because the status of these companies has not changed since the Preliminary Results, we continue to find that they are ineligible for a separate rate and are part of the China-wide entity. Because no party requested a review of the China-wide entity and Commerce no longer considers the China-wide entity as an exporter conditionally subject to administrative reviews,¹³ we did not conduct a review of the China-wide entity. Thus, the rate for the China-wide entity is not subject to change as a result of this review.

¹² See Preliminary Results, and accompanying PDM, at 8-11.

¹³ See Antidumping Proceedings: Announcement of Change in Department Practice for Respondent Selection in Antidumping Duty Proceedings and Conditional Review of the Nonmarket Economy Entity in NME Antidumping Duty Proceedings, 78 FR 65963, 65969-70 (November 4, 2013).

Final Results of the Review

We continue to determine that the following weighted-average dumping margins exist for the period April 1, 2016, through March 31, 2017:

Exporter | Weighted- average dumping margin (percent)
Guangong New Shichu Import and Export Company Limited | 1.78
KaiPing Dawn Plumbing Products, Inc | 1.78
Jiangmen New Star Hi-Tech Enterprise Ltd | 1.78
Ningbo Afa Kitchen and Bath Co., Ltd | 1.78

Assessment Rates

Pursuant to section 751(a)(2)(C) of the Act and 19 CFR 351.212(b), Commerce has determined, and CBP shall assess, antidumping duties on all appropriate entries of subject merchandise in accordance with the final results of this review. Commerce intends to issue appropriate assessment instructions directly to CBP 15 days after publication of the final results of this administrative review.

For the above-listed respondents which were not selected for individual examination in this administrative review and qualified for a separate rate, we will instruct CBP to assess dumping duties at the rate of 1.78 percent.

For Feidong, Hongmao, Yuyao, and Zhaoshun, because Commerce determined that these companies did not qualify for a separate rate, we will instruct CBP to assess dumping duties on all entries of subject merchandise during the POR which were produced and/or exported by these companies at a rate of 76.45 percent.

For B&R, Superte, Xinhe, and Zhuhai KOHLER, because Commerce determined that these companies had no shipments of the subject merchandise during the POR, any suspended entries of subject merchandise from these companies will be liquidated at China-wide rate.¹⁴

¹⁴ For a full discussion of this practice, see Non-Market Economy Antidumping Proceedings: Assessment of Antidumping Duties, 76 FR 65694 (October 24, 2011).

Cash Deposit Requirements

The following cash deposit requirements will be effective upon publication of the final results of this administrative review for all shipments of the subject merchandise from China entered, or withdrawn from warehouse, for consumption on or after the publication date, as provided for by section 751(a)(2)(C) of the Act: (1) For the companies listed above that have a separate rate, the cash deposit rate will be that rate established in the final results of this review; (2) for previously investigated or reviewed China and non-China exporters that received a separate rate in a prior segment of this proceeding, the cash deposit rate will continue to be the existing exporter-specific rate; (3) for all China exporters of subject merchandise that have not been found to be entitled to a separate rate, the cash deposit rate will be the rate for China-wide entity, which is 76.45 percent; and (4) for all non-China exporters of subject merchandise which have not received their own rate, the cash deposit rate will be the rate applicable to China exporter(s) that supplied that non-China exporter. These deposit requirements, when imposed, shall remain in effect until further notice.

Notification to Importers

This notice also serves as a final reminder to importers of their responsibility under 19 CFR 351.402(f) to file a certificate regarding the reimbursement of antidumping and/or countervailing duties prior to liquidation of the relevant entries during this POR. Failure to comply with this requirement could result in Commerce's presumption that reimbursement of antidumping and/or countervailing duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is published in accordance with sections 751(a)(l) and 777(i)(l) of the Act.

Dated: May 8, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. Discussion of the Issues

Comment 1. Feidong's Separate Rate Status

V. Recommendation

[FR Doc. 2018-10697 Filed 5-18-18; 8:45 am]

BILLING CODE 3510-DS-P